DEPARTMENT OF THE INTERIOR

Bureau of Indian Affairs

Amended Proposed Finding Against Acknowledgment of the Pointe-au-Chien Indian Tribe (PACIT) of Louisiana

AGENCY: Bureau of Indian Affairs, Interior.

ACTION: Notice of amended proposed finding.

SUMMARY: Pursuant to 25 CFR 83.10(h), the Department of the Interior (Department) gives notice that the Assistant Secretary—Indian Affairs (AS-IA) proposes to determine that the Pointe-au-Chien Indian Tribe, c/o Charles Verdin, P.O. Box 416, Montegut, Louisiana 70377, is not an Indian tribe within the meaning of Federal law.

This notice is based on a determination that the petitioner does not satisfy all seven of the criteria set forth in Part 83 of Title 25 of the Code of Federal Regulations (25 CFR Part 83), specifically criteria 83.7(b), 83.7(c), and 83.7(e), and therefore, does not meet the requirements for a government-to-government relationship with the United States.

DATES: Comments on this amended proposed finding are due on or before November 26, 2008. Publication of this notice of the amended proposed finding in the Federal Register initiates a 180-day comment period during which the petitioner and interested and informed parties may submit arguments and evidence to support or rebut the evidence relied upon in the amended proposed finding. Interested or informed parties must provide a copy of their comments to the petitioner. The regulations, 25 CFR 83.10(k), provide petitioners a minimum of 60 days to respond to any submissions on the amended proposed finding received from interested and informed parties during the comment period.

ADDRESSES: Comments and requests for a copy of the summary evaluation of the evidence should be addressed to the Office of the Assistant Secretary—Indian Affairs, Attention: Office of Federal Acknowledgment, 1951 Constitution Avenue, NW., Mail Stop 34B-SIB, Washington, DC 20240.

FOR FURTHER INFORMATION CONTACT: R. Lee Fleming, Director, Office of Federal Acknowledgment, (202) 513-7650.

SUPPLEMENTARY INFORMATION: The Department publishes this notice in the exercise of authority that the Secretary of the Interior delegated to the AS—IA by 209 DM 8.

The Pointe-au-Chien Indian Tribe (PACIT), Petitioner #56b, claims to be the continuation of a historical Indian community on a bayou in south-central Louisiana that was originally settled in the mid-19th century. PACIT has 682 members. It has a written constitution as its governing document. PACIT's membership criteria require its members to descend from an individual living in the Bayou “Pointe-au-Chien” Indian settlement in 1900. It has described its members as descendants of the historical Chitimacha, Acolapissa, Atakapa, Choctaw, and Biloxi Indian tribes, but its members and their ancestors have been called “Houma” Indians since at least 1907. The petitioner's current organization was incorporated under Louisiana law in 1993 as the “Documented Houma Tribe” and adopted the name “Pointe au Chien Indian Tribe” in 1995, adding hyphens to its name in 2005. Most of PACIT's members previously had been members of the United Houma Nation (UHN), Petitioner #56, which received a negative proposed finding in 1994.

PACIT submitted a letter of intent to petition for Federal acknowledgment in 1996. The Department advised the PACIT petitioner in 1997 of its decision to issue an “amended Proposed Finding” for PACIT, saying that, “[p]rocedurally, PACIT is being treated as a petitioner with a proposed finding. * * *” The Department informed the PACIT petitioner that it would treat the petitioner as being “covered by the documented petition which was previously submitted” by the UHN petitioner. The Department set a time period for PACIT to comment on the UHN proposed finding and submit its own petition documentation. On November 10, 1997, the Department received petition documentation from the PACIT petitioner. The Department notified PACIT that evaluation of its petition began on February 4, 2005, and a period to submit additional materials would close on April 15, 2005. The PACIT petitioner submitted petition documentation to the Department by April 15, 2005.

This notice is based on a determination that PACIT does not satisfy all of the seven mandatory criteria for acknowledgment in 25 CFR 83.7. The acknowledgment process is based on the regulations at 25 CFR Part 83. Under these regulations, the petitioner has the burden to present evidence that it meets the seven mandatory criteria in section 83.7. This amended proposed finding reaches the following conclusions for each of the mandatory criteria in 25 CFR Part 83.7:

The PACIT petitioner meets the requirements of criterion 83.7(a). This amended proposed finding concludes that identifications of a “Houma” population or group when combined with other identifications of a Pointe au Chien settlement or group of the “Houma” provides evidence sufficient to demonstrate the substantially continuous identification of the petitioner as an Indian entity since 1900. Therefore, the PACIT petitioner meets the requirements of this criterion.

The PACIT petitioner does not meet the requirements of criterion 83.7(b). This amended proposed finding concludes the PACIT petitioner has not demonstrated that it meets the requirements of this criterion because the evidence is insufficient to demonstrate that its ancestors and others associated with them constituted a community before 1830. This finding concludes the PACIT petitioner meets this criterion between 1830 and 1940 on the basis of the conclusions contained in the 1994 proposed finding on the UHN petitioner and that it meets this criterion since 1940 on the basis of the evidence available for this amended proposed finding. Because the evidence in the record does not show that the petitioning group existed as a community from historical times to the present, the PACIT petitioner has not demonstrated that it meets the requirements of this criterion.

The PACIT petitioner does not meet the requirements of criterion 83.7(c). This amended proposed finding concludes the PACIT petitioner has not demonstrated that it meets the requirements of this criterion because there is insufficient evidence that it maintained political influence over its historical ancestors before 1830. This finding concludes the PACIT petitioner meets this criterion between 1830 and 1940 on the basis of the conclusions contained in the 1994 proposed finding on the UHN petitioner. For the period since 1940, the evidence available for this amended proposed finding is sufficient to demonstrate that the petitioner meets this criterion only since 1988. Because the evidence in the record is insufficient to show that the petitioning group has maintained political influence over group members from historical times to the present, the PACIT petitioner has not demonstrated that it meets the requirements of this criterion.

The PACIT petitioner meets the requirements of criterion 83.7(d). The PACIT petitioner provided current governing documents that describe its governing procedures and membership criteria, and, therefore, meets the requirements of this criterion.

The PACIT petitioner does not meet the requirements of criterion 83.7(e). The petitioner submitted a certified membership list identifying 682 members. An analysis of selected members demonstrates that most of them descend from at least one of two individual historical “Indians,” but those historical individuals have not been shown to be a part of a historical Indian tribe, or of historical Indian tribes which combined and functioned as a single tribal entity. The evidence in the record has not demonstrated that the PACIT petitioner's members descend from a historical Indian tribe and, therefore, the PACIT petitioner does not meet the requirements of this criterion.

The PACIT petitioner meets the requirements of criterion 83.7(f). The names of current PACIT members do not appear on rolls of federally recognized Indian tribes reviewed for this amended proposed finding. Additionally, the PACIT petitioner requires its members to disavow membership in any other Indian group, and its submission included disavowals for 84 percent of the 682 PACIT members. Because evidence in the record indicates that the petitioning group is composed principally of persons who are not members of any acknowledged North American Indian tribe, the PACIT petitioner meets the requirements of this criterion.

The PACIT petitioner meets the requirements of criterion 83.7(g). Because no evidence has been submitted or located that indicates the petitioner, its members, or their ancestors have been the subject of congressional legislation that has expressly terminated or forbidden a relationship with the Federal Government as Indians or as an Indian tribe, the PACIT petitioner meets the requirements of this criterion.

As provided by 25 CFR 83.10(h), a report summarizing the evidence, reasoning, and analyses that are the basis for the amended proposed finding will be provided to the petitioner and interested parties, and is available to other parties upon written request.

After the expiration of the comment and response periods described above, the Department will consult with the petitioner concerning establishment of a schedule for preparation of the final determination. The AS-IA will publish the final determination of the petitioner's status in the Federal Register as provided in 25 CFR 83.10(1), at a time that is consistent with that schedule.

Dated: May 22, 2008.
Carl J. Artman,
Assistant Secretary—Indian Affairs.

[FR Doc. E8-12153 Filed 5-29-08; 8:45 am]

BILLING CODE 4310-G1-P